DEPARTMENT OF THE INTERIOR

National Park Service

Notice of Inventory Completion: Peabody Museum of Archaeology and Ethnology, Harvard University, Cambridge, MA; Correction

AGENCY: National Park Service, Interior.

ACTION: Notice; correction.

Notice is here given in accordance with the Native American Graves Protection and Repatriation Act (NAGPRA), 25 U.S.C. 3003 (5), of the completion of an inventory of human remains and associated funerary objects in the possession of the Peabody Museum of Archaeology and Ethnology, Harvard University, Cambridge, MA. The human remains and associated funerary objects were removed from Barnstable and Plymouth Counties, MA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the associated funerary objects was made by the Peabody Museum of Archaeology and Ethnology professional staff in consultation with representatives of the Wampanoag Repatriation Confederation, on behalf of the Wampanoag Tribe of Gay Head (Aquinnah) of Massachusetts, Assonet Band of the Wampanoag Nation (a non-federally recognized Indian group), and Mashpee Wampanoag Indian Tribe (a non-federally recognized Indian group).

This notice corrects the number of associated funerary objects reported in a Notice of Inventory Completion published in the Federal Register on August 14, 2003, (FR Doc 03-20754, pages 48626-48634). In 2006, the Peabody Museum of Archaeology and Ethnology identified one error in a collector's name, identified one error in a collection date, and identified additional associated funerary objects from four sites in southeastern MA. The Peabody Museum of Archaeology and Ethnology also changed the method used to quantify reported cultural items. In light of these findings, the original Notice of Inventory Completion is amended to decrease the calculated number from 127 to 113 associated funerary objects. Changes to the original inventories come as a result of the Peabody Museum of Archaeology and Ethnology's continuing inventory work. Although the method used to quantify objects has changed, the previously reported cultural items in this collection remain the same.

In the Federal Register of August 14, 2003, on page 48628, paragraph number 7 is corrected by substituting the following paragraph:

In 1887, human remains representing one individual were removed from Sandwich, Barnstable County, MA, by Lombard C. Jones. Dr. Jones donated the human remains to the Peabody Museum of Archaeology and Ethnology in 1908. No known individual was identified. The one associated funerary object is a nail with a wood fragment.

In the Federal Register of August 14, 2003, on page 48631, paragraph number 7 is corrected by substituting the following paragraph:

In 1867, human remains representing one individual from Nantasket Beach in Hull, Plymouth County, MA, were donated to the Peabody Museum of Archaeology and Ethnology by Jeffries Wyman. The human remains were collected by Mr. Wyman at an unknown date. No known individual was identified. The 17 associated funerary objects are 16 shell-tempered pottery sherds and 1 lot of ceramic body sherds.

In the Federal Register of August 14, 2003, at page 48631, paragraph number 9 is corrected by substituting the following paragraph:

In 1881, human remains representing six individuals were removed from the Patuxet Hotel site in Kingston, Plymouth County, MA, by L. H. Keith and were donated to the Peabody Museum of Archaeology and Ethnology by Mr. Keith in the same year. No known individuals were identified. The 18 associated funerary objects are 1 container of human hair and cloth, 1 container of cloth fragments, 1 container of iron nails, 1 container of wood fragments, 1 container of iron knife fragments, 1 metal spoon, 1 lot of textile and wood fragments with soil matrix, 2 kaolin clay pipes, 3 pieces of lead, 1 stone button mold, 3 lead buttons, and 2 flint flakes.

In the Federal Register of August 14, 2003, on page 48632, paragraph number 7 is corrected by substituting the following paragraph:

In 1933, human remains representing one individual were removed from the Herring Weir area of Mattapoisett, Plymouth County, MA, and were donated to the Peabody Museum of Archaeology and Ethnology by Raymond H. Baxter. The human remains were discovered by men working in the area in 1932. No known individual was identified. The 11 associated funerary objects are 1 fragmented copper kettle, 2 copper sheet fragments, 5 fragments of iron implements, 1 container of red clay, 1 container of skin and bark, and 1 large fragment of a woven bag.

In the Federal Register of August 14, 2003, on page 48633, paragraph numbers 9 and 10 are corrected by substituting the following paragraphs:

Officials of the Peabody Museum of Archaeology and Ethnology have determined that, pursuant to 25 U.S.C. 3001 (9-10), the human remains described above represent the physical remains of 238 individuals of Native American ancestry. Officials of the Peabody Museum of Archaeology and Ethnology also have determined that, pursuant to 25 U.S.C. 3001 (3)(A), the 113 objects described above are reasonably believed to have been placed with or near individual human remains at the time of death or later as part of the death rite or ceremony. Lastly, officials of the Peabody Museum of Archaeology and Ethnology have determined that, pursuant to 25 U.S.C. 3001 (2), there is a relationship of shared group identity that can be reasonably traced between the Native American human remains and associated funerary objects and the Wampanoag Tribe of Gay Head (Aquinnah) of Massachusetts, and there is a cultural relationship between the human remains and associated funerary objects and the Assonet Band of the Wampanoag Nation (a non-federally recognized Indian group) and Mashpee Wampanoag Indian Tribe (a non-federally recognized Indian group).

Representatives of any other Indian tribe that believes itself to be culturally affiliated with the human remains and associated funerary objects should contact Patricia Capone, Repatriation Coordinator, Peabody Museum of Archaeology and Ethnology, Harvard University, 11 Divinity Avenue, Cambridge, MA 02138, telephone (617) 496-3702, before January 8, 2007. Repatriation of the associated funerary objects to the Wampanoag Repatriation Confederation, on behalf of the Wampanoag Tribe of Gay Head (Aquinnah) of Massachusetts, Assonet Band of the Wampanoag Nation (a non-federally recognized Indian group), and Mashpee Wampanoag Indian Tribe (a non-federally recognized Indian group) may proceed after that date if no additional claimants come forward.

The Peabody Museum of Archaeology and Ethnology is responsible for notifying the Wampanoag Repatriation Confederation, Wampanoag Tribe of Gay Head (Aquinnah) of Massachusetts, Assonet Band of the Wampanoag Nation (a non-federally recognized Indian group), and Mashpee Wampanoag Indian Tribe (a non-federally recognized Indian group) that this notice has been published.

Dated: November 9, 2006.
Sherry Hutt,
Manager, National NAGPRA Program.

[FR Doc. E6-20750 Filed 12-6-06; 8:45 am]

BILLING CODE 4312-50-S